DEPARTMENT OF DEFENSE

Department of the Army

Privacy Act of 1974; System of Records

AGENCY: Department of the Army, DoD.

ACTION: Notice to amend Systems of Records.

SUMMARY: The Department of the Army is amending a system of records notice in its existing inventory of record systems subject to the Privacy Act of 1974, (5 U.S.C. 552a), as amended.

DATES: This proposed action will be effective without further notice on May 21, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: April 16, 2001.
L.M. Bynum,
Alternate OSD Federal Register Liaison Officer, Department of Defense.

A0210-10 TAPC

System Name:

Departure Clearance Files (February 22, 1993, 58 FR 10002).

Changes:

System Identifier:

Delete entry and replace with ‘A0600-8-101TAPC’.

System Name:

Delete entry and replace with ‘Military and Civilian Out-Processing Files’.

System Location:

Delete entry and replace with ‘Administrative offices and Army Staff agencies, field operating commands, installations and/or activities Army wide. Official mailing addresses are published as an appendix to the Army’s compilation of record systems notices.”

Categories of individuals covered by the system:

Delete entry and replace with ‘All Army Active Duty, National Guard, Army Reserve and Department of the Army civilian personnel.’

Categories of Records in the System:

Delete entry and replace with ‘Installation and Unit Clearance Records, Reassignment Records Checklist, copy of receipts or documents evidencing payment of telephone bills, return of material held on memorandum receipt and other supporting clearance matters and materials.’

* * * * *

Retrievability:

Delete entry and replace with ‘By Social Security Number and Surname of departing individual.

Retention and Disposal:

Delete entry and replace with ‘Information concerning clearance procedures for departing soldiers, included are clearance certificates, checklists, and related information are maintained for one year then destroyed.

Information listed in the out-processing master file and out-processing outputs files treat as permanent until a disposition and retention schedule has been approved by the National Archives and Records Administration.’

* * * * *

A0600-8-101TAPC

System Name:

Military and Civilian Out-Processing Files.

System Location:

Administrative offices and Army Staff agencies, field operating commands, installations and/or activities Army wide. Official mailing addresses are published as an appendix to the Army's compilation of record systems notices.

Categories of Individuals Covered by the System:

All Army active duty, National Guard, Army Reserve and Department of the Army civilian personnel’

Categories of Records in the System:

Installation and Unit Clearance Records, Reassignment Records Checklist, copy of receipts or documents evidencing payment of telephone bills, return of material held on memorandum receipt and other supporting clearance matters and materials.

Authority for Maintenance of the System:

10 U.S.C. 3013, Secretary of the Army; Army Regulation 600-8-101, Personnel (In-and Out-and Mobilization Processing); and E.O. 9397 (SSN).

Purpose(s):

To verify that an individual has obtained clearance from the Army Staff agency or installation's facilities and has accomplished his/her personal and official obligations.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows: The DoD ‘Blanket Routine Uses’ set forth at the beginning of the Army's compilation of systems of records notices also apply to this system.

Policies and Practices for Storing, Retrieving, Accessing, Retaining, and Disposing of Records in the System

Storage:

Paper records in file folders and electronic storage media.

Retrievability:

By Social Security Number and Surname of departing individual.

Safeguards:

Information is accessed only by designated persons having official need therefor.

Retention and Disposal:

Information concerning clearance procedures for departing soldiers, included are clearance certificates, checklists, and related information are maintained for one year then destroyed.

Information listed in the out-processing master file and out-processing outputs files treat as permanent until a disposition and retention schedule has been approved by the National Archives and Records Administration.

System Manager(s) and Address:

Commander, U.S. Total Army Personnel Command, Out-Processing Functional Proponent, 200 Stovall Street, Alexandria, Virginia 22332-0474.

Notification Procedure:

Individuals seeking to determine whether information about themselves is contained in this system should address written inquiries to the administrative office of the installation/activity to which the individual had been assigned.

Individual should provide the full name, Social Security Number, departure date, location of last employing office, and signature.

Record Access Procedures:

Individuals seeking access to information about themselves contained in this system should address written inquiries to the administrative office of the installation/activity to which the individual had been assigned.

Individual should provide the full name, Social Security Number, departure date, location of last employing office, and signature.

Contesting Record Procedures:

The Army's rules for accessing records, and for contesting contents and appealing initial agency determinations are contained in Army Regulation 340-21; 32 CFR part 505; or may be obtained from the system manager.

Record Source Categories:

From the individual; Army records and reports.

Exemptions Claimed for the System:

None.

[FR Doc. 01-9829 Filed 4-19-01; 8:45 am]

BILLING CODE 5001-10-P